NEIGHBORHOOD REINVESTMENT CORPORATION

Sunshine Act Meeting Notice, Regular Board of Directors Meeting

TIME & DATE: 2:00 p.m., Wednesday, June 6, 2012.

PLACE: 1325 G Street NW., Suite 800, Boardroom,Washington, DC 20005.

STATUS: Open.

CONTACT PERSON FOR MORE INFORMATION: Erica Hall, Assistant Corporate Secretary, (202) 220-2376; ehall@nw.org.

AGENDA:

I. Call to Order

II. Presentation to Former Chairman Curry

III. Approval of the Regular Board of Director Meeting Minutes

IV. Approval of the Audit Committee Meeting Minutes

V. Approval of the Finance, Budget and Program Committee Meeting Minutes

VI. Approval of the Corporate Administration Committee Meeting Minutes

VII. Executive Session

VIII. Board Elections and Appointments

IX. Community Housing Capital & NeighborWorks Capital

X. DC Lease Update

XI. Financial Report

XII. National Foreclosure Mitigation Counseling (NFMC)

XIII. Management Report

XIV. Adjournment

Erica Hall,
Assistant Corporate Secretary.

[FR Doc. 2012-13180 Filed 5-25-12; 11:15 am]

BILLING CODE 7570-02-P